DEPARTMENT OF STATE

[Public Notice 8461]

U.S. Department of State Advisory Committee on Private International Law: Notice of Annual Meeting

The Department of State's Advisory Committee on Private International Law (ACPIL) will hold its annual meeting on Monday, October 21 and Tuesday, October 22, 2013 in Washington, DC. The meeting will be held at the Michael K. Young Faculty Conference Center, George Washington University Law School, 2000 H Street NW., Washington DC 20052. The program is scheduled to run from 9:00 a.m. to 5:00 p.m. on Monday and from 9:00 a.m. to 2:00 p.m. on Tuesday.

Time permitting, we expect that the discussion will focus on a number of areas, e.g., international family law; micro, small and medium enterprises; the Cape Town Convention; judgments; and insolvency. We encourage active participation by all those attending.

Documents on these subjects are available at www.hcch.net; www.uncitral.org; and www.unidroit.org. We may, by email, provide participants particular documents.

Please advise as early as possible if you plan to attend. The meeting is open to the public up to the capacity of the conference facility, and space will be reserved on a first come, first served basis. Persons who wish to have their views considered are encouraged, but not required, to submit written comments in advance. Those who are unable to attend are also encouraged to submit written views. Comments should be sent electronically to pil@state.gov. Those planning to attend should provide name, affiliation and contact information to pil@state.gov. You may also use that email to obtain additional information. A member of the public needing reasonable accommodation should notify us at pil@state.gov not later than September 30th. Requests made after that date will be considered, but might not be able to be fulfilled.

Dated: August 30, 2013.
Michael S. Coffee,
Acting Assistant Legal Adviser, Office of Private International Law, Office of the Legal Adviser, Department of State.

[FR Doc. 2013-22088 Filed 9-10-13; 8:45 am]

BILLING CODE 4710-08-P